ENVIRONMENTAL PROTECTION AGENCY

40 CFR Parts 60, 61, and 63

[EPA-R06-OAR-2019-0615; FRL-10013-03-Region 6]

New Source Performance Standards and National Emission Standards for Hazardous Air Pollutants; Delegation of Authority to Albuquerque-Bernalillo County Air Quality Control Board

AGENCY: Environmental Protection Agency (EPA).

ACTION: Proposed rule.

SUMMARY: The Albuquerque-Bernalillo County Air Quality Control Board (ABCAQCB) has submitted updated regulations for receiving delegation and approval of a program for the implementation and enforcement of certain New Source Performance Standards (NSPS) and National Emission Standards for Hazardous Air Pollutants (NESHAP) for all sources (both Title V and non-Title V sources). These updated regulations apply to certain NSPS promulgated by the EPA, as amended between September 14, 2013 and January 23, 2017; certain NESHAP promulgated by the EPA, as amended between September 14, 2013 and January 23, 2017; and other NESHAP promulgated by the EPA, as amended between September 14, 2013 and January 23, 2017, as adopted by the ABCAQCB. The EPA is providing notice that it is updating the delegation of certain NSPS to ABCAQCB and taking proposed action to approve the delegation of certain NESHAP to ABCAQCB. The delegation of authority under this action does not apply to sources located in areas defined as Indian Country.

DATES: Written comments should be received on or before October 16, 2020.

ADDRESSES: Submit your comments, identified by Docket ID No. EPA-R06-OAR-2019-0615, at http://www.regulations.gov or via email to barrett.richard@epa.gov. For additional information on how to submit comments see the detailed instructions in the ADDRESSES section of the direct final rule located in the rules section of this issue of the Federal Register.

FOR FURTHER INFORMATION CONTACT: Mr. Rick Barrett, EPA Region 6 Office, 6ARPE, 1201 Elm Street, Suite 500, Dallas, TX 75270, (214) 665-7227; email: barrett.richard@epa.gov. Out of an abundance of caution for members of the public and our staff, the EPA Region 6 office will be closed to the public to reduce the risk of transmitting COVID-19. We encourage the public to submit comments via https://www.regulations.gov, as there will be a delay in processing mail and no courier or hand deliveries will be accepted. Please call or email the contact listed above if you need alternative access to material indexed but not provided in the docket.

SUPPLEMENTARY INFORMATION: In the final rules section of this issue of the Federal Register, the EPA is approving ABCAQCB's request for delegation of authority to implement and enforce certain NSPS and NESHAP for all sources (both Title V and non-Title V sources). ABCAQCB has adopted certain NSPS and NESHAP by reference into ABCAQCB's regulations. In addition, the EPA is waiving certain notification requirements required by the delegated standards so that sources will only need to notify and report to ABCAQCB, thereby avoiding duplicative notification and reporting to the EPA. This waiver only extends to the submission of copies of notifications and reports; EPA does not waive the requirements in delegated standards that require notifications and reports be submitted to an electronic database.

The EPA is taking direct final action without prior proposal because the EPA views this as a noncontroversial action and anticipates no relevant adverse comments. A detailed rationale for the approval is set forth in the direct final rule. If no relevant adverse comments are received in response to this action, no further activity is contemplated. If the EPA receives relevant adverse comments, the direct final rule will be withdrawn, and all public comments received will be addressed in a subsequent final rule based on this proposed rule. The EPA will not institute a second comment period. Any parties interested in commenting should do so at this time.

For additional information, see the direct final rule which is located in the rules section of this issue of the Federal Register.

Dated: July 30, 2020.
David Garcia,
Director, Air & Radiation Division, Region 6.

[FR Doc. 2020-17062 Filed 9-15-20; 8:45 am]

BILLING CODE 6560-50-P